LEGAL SERVICES CORPORATION

Sunshine Act Meeting of LSC Board of Directors Finance Committee

TIME AND DATE: The Legal Services Corporation (“LSC” or “Corporation”) Board of Directors (“Board”) Finance Committee will meet telephonically on September 13, 2011 at 11 a.m., Eastern Time.

LOCATION: Legal Services Corporation, F. William McCalpin Conference Center, 3333 K Street, NW., Washington, DC 20007.

STATUS OF MEETING: Open.

PUBLIC OBSERVATION: Members of the public who wish to listen to the proceedings may do so by following the telephone call-in directions given below but are asked to keep their telephones muted to eliminate background noises. From time to time the Chairman may solicit comments from the public.

CALL-IN DIRECTIONS FOR OPEN SESSION(S): ♢ Call toll-free number: 1-(866) 451-4981;

♢ When prompted, enter the following numeric pass code: 5907707348;

♢ When connected to the call, please “mute” your telephone immediately.

MATTERS TO BE CONSIDERED:

Finance Committee

Agenda

Open Session

1. Approval of agenda.

2. Consider and act on LSC Management's Draft Fiscal Year (“FY”) 2013 Budget Request to Congress:

—Presentation by David Richardson, LSC's Treasurer & Comptroller;

—Comments by John Constance, LSC's Director, Office of Government Relations & Public Affairs;

—Comments by Jeffrey Schanz, LSC's Inspector General.

3. Consider and act on recommending to the Board Resolution 2011-012: A Resolution Adopting LSC's FY 2013 Budget Request to Congress.

4. Other Business.

5. Consider and act on adjournment of meeting.

CONTACT PERSON FOR INFORMATION: Katherine Ward, Executive Assistant to the Corporate Secretary, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals that need other accommodations due to disability in order to attend the meeting in person or telephonically should contact Katherine Ward at (202) 295-1500 or FR_NOTICE_QUESTIONS@lsc.gov, at least 2 business days in advance of the meeting. If a request is made without advance notice, LSC will make every effort to accommodate the request but cannot guarantee that all requests can be fulfilled.

Dated: September 6, 2011.
Victor M. Fortuno,
Vice President & General Counsel.

[FR Doc. 2011-23135 Filed 9-6-11; 4:15 pm]

BILLING CODE 7050-01-P